DEPARTMENT OF TRANSPORTATION

Federal Aviation Administration

14 CFR Part 39

[Docket No. FAA-2004-19494; Directorate Identifier 2004-NM-135-AD]

RIN 2120-AA64

Airworthiness Directives; Airbus Model A318, A319, A320, and A321 Series Airplanes Equipped With Air Cruisers/Aerazur Forward and Aft Passenger Door Emergency Escape Slides

AGENCY: Federal Aviation Administration (FAA), DOT.

ACTION: Notice of proposed rulemaking (NPRM).

SUMMARY: The FAA proposes to adopt a new airworthiness directive (AD) for certain Airbus Model A318, A319, A320, and A321 series airplanes equipped with certain forward and aft passenger door emergency escape slides. This proposed AD would require modifying the forward and aft door slides. This proposed AD is prompted by manufacturer testing that has shown contact between the inflation hose and fabric roll, within a short period of time after inflation of the emergency escape slides, can rupture the inflation hose at its end fittings. We are proposing this AD to prevent interference between the inflation hose and slide fabric and rupture of the inflation hose, which could result in incomplete inflation of the emergency escape slides and consequent unavailability of those slides during an emergency evacuation.

DATES: We must receive comments on this proposed AD by December 3, 2004.

ADDRESSES: Use one of the following addresses to submit comments on this proposed AD.

• DOT Docket web site: Go to http://dms.dot.gov and follow the instructions for sending your comments electronically.

• Government-wide rulemaking web site: Go to http://www.regulations.gov and follow the instructions for sending your comments electronically.

• Mail: Docket Management Facility, U.S. Department of Transportation, 400 Seventh Street SW, Nassif Building, room PL-401, Washington, DC 20590.

• By fax: (202) 493-2251.

• Hand Delivery: Room PL-401 on the plaza level of the Nassif Building, 400 Seventh Street SW., Washington, DC, between 9 a.m. and 5 p.m., Monday through Friday, except Federal holidays.

For service information identified in this proposed AD, contact Airbus, 1 Rond Point Maurice Bellonte, 31707 Blagnac Cedex, France.

You can examine the contents of this AD docket on the Internet at http://dms.dot.gov, or at the Docket Management Facility, U.S. Department of Transportation, 400 Seventh Street SW., room PL-401, on the plaza level of the Nassif Building, Washington, DC.

FOR FURTHER INFORMATION CONTACT: Technical information: Dan Rodina, Aerospace Engineer, International Branch, ANM-116, FAA, Transport Airplane Directorate, 1601 Lind Avenue, SW., Renton, Washington 98055-4056; telephone (425) 227-2125; fax (425) 227-1149.

Plain language information: Marcia Walters, marcia.walters@faa.gov.

SUPPLEMENTARY INFORMATION:

Docket Management System (DMS)

The FAA has implemented new procedures for maintaining AD dockets electronically. As of May 17, 2004, new AD actions are posted on DMS and assigned a docket number. We track each action and assign a corresponding directorate identifier. The DMS AD docket number is in the form “Docket No. FAA-2004-99999.” The Transport Airplane Directorate identifier is in the form “Directorate Identifier 2004-NM-999-AD.” Each DMS AD docket also lists the directorate identifier (“Old Docket Number”) as a cross-reference for searching purposes.

Comments Invited

We invite you to submit any relevant written data, views, or arguments regarding this proposed AD. Send your comments to an address listed under ADDRESSES. Include “Docket No. FAA-2004-19494; Directorate Identifier 2004-NM-135-AD” at the beginning of your comments. We specifically invite comments on the overall regulatory, economic, environmental, and energy aspects of the proposed AD. We will consider all comments submitted by the closing date and may amend the proposed AD in light of those comments.

We will post all comments we receive, without change, to http://dms.dot.gov, including any personal information you provide. We will also post a report summarizing each substantive verbal contact with FAA personnel concerning this proposed AD. Using the search function of our docket website, anyone can find and read the comments in any of our dockets, including the name of the individual who sent the comment (or signed the comment on behalf of an association, business, labor union, etc.). You can review the DOT's complete Privacy Act Statement in the Federal Register published on April 11, 2000 (65 FR 19477-78), or you can visit http://dms.dot.gov.

We are reviewing the writing style we currently use in regulatory documents. We are interested in your comments on whether the style of this document is clear, and your suggestions to improve the clarity of our communications that affect you. You can get more information about plain language at http://www.faa.gov/language and http://www.plainlanguage.gov.

Examining the Docket

You can examine the AD docket on the Internet at http://dms.dot.gov, or in person at the Docket Management Facility office between 9:00 a.m. and 5:00 p.m., Monday through Friday, except Federal holidays. The Docket Management Facility office (telephone (800) 647-5227) is located on the plaza level of the Nassif Building at the DOT street address stated in the ADDRESSES section. Comments will be available in the AD docket shortly after the DMS receives them.

Discussion

The Direction Générale de l'Aviation Civile (DGAC), which is the airworthiness authority for France, notified us that an unsafe condition may exist on certain Airbus Model A318, A319, A320, and A321 series airplanes. The DGAC advises that manufacturer testing has shown that contact between the inflation hose and fabric roll, within a short period of time after inflation of the emergency escape slides, can rupture the inflation hose at its end fittings. This condition, if not corrected, could result in incomplete inflation of the emergency escape slides and consequent unavailability of those slides during an emergency evacuation.

Relevant Service Information

Airbus has issued Service Bulletin A320-25-1338, dated February 9, 2004. The service bulletin describes procedures for modifying the forward and aft door slides. Accomplishing the actions specified in the service information is intended to adequately address the unsafe condition. The DGAC mandated the service information and issued French airworthiness directive F-2004-072, dated May 26, 2004, to ensure the continued airworthiness of these airplanes in France.

The Airbus service bulletin refers to Air Cruisers/Aerazur Service Bulletin A320 004-25-72, dated October 28, 2003, as an additional source of service information for modifying the forward and aft door slides by bonding a hose retainer to the slide assembly; routing the hose assembly through the hose retainer; and reidentifying the slide assembly and slide system.

FAA's Determination and Requirements of the Proposed AD

These airplane models are manufactured in France and are type certificated for operation in the United States under the provisions of section 21.29 of the Federal Aviation Regulations (14 CFR 21.29) and the applicable bilateral airworthiness agreement. Pursuant to this bilateral airworthiness agreement, the DGAC has kept the FAA informed of the situation described above. We have examined the DGAC's findings, evaluated all pertinent information, and determined that we need to issue an AD for products of this type design that are certificated for operation in the United States.

Therefore, we are proposing this AD, which would require modifying the forward and aft door slides. The proposed AD would require you to use the Airbus service information described previously to perform these actions, except as discussed under “Difference Between the Proposed AD and French Airworthiness Directive.”

Difference Between the Proposed AD and French Airworthiness Directive

The applicability of French airworthiness directive F-2004-072 excludes airplanes that accomplished Airbus Service Bulletin A320-25-1338 in service. However, we have not excluded those airplanes in the applicability of this proposed AD; rather, this proposed AD includes a requirement to accomplish the actions specified in that service bulletin. Such a requirement would ensure that the actions specified in the service bulletin and required by this proposed AD are accomplished on all affected airplanes. Operators must continue to operate the airplane in the configuration required by this proposed AD unless an alternative method of compliance is approved.

Costs of Compliance

The following table provides the estimated costs for U.S. operators to comply with this proposed AD, at an average labor rate of $65 per work hour.

Estimated Costs
Action | Work hours per slide | Slides per airplane | Parts | Cost per airplane | Number of U.S.-registered airplanes | Fleet cost
Modification | 1 | 2 | Free | $130 | 648 | $84,240

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Airbus: Docket No. FAA-2004-19494; Directorate Identifier 2004-NM-135-AD.

Comments Due Date

(a) The Federal Aviation Administration must receive comments on this AD action by December 3, 2004.

Affected ADs

(b) None.

Applicability

(c) This AD applies to Airbus Model A318-111 and -112 series airplanes; Model A319-111, -112, -113, -114, -115, -131, -132, and -133 series airplanes; Model A320-111, -211, -212, -214, -231, -232, and -233 series airplanes; and Model A321-111, -112, -131, -211, and -231 series airplanes; certificated in any category; equipped with Air Cruisers/Aerazur forward passenger door emergency escape slides, part number (P/N) D31516-111, -113, -115, -117, -311, or -313, and aft passenger door emergency escape slides, part number (P/N) D31517-111, -113, -115, -117, -311, or -313; except those airplanes on which Airbus Modification 33429 has been accomplished in production.

Unsafe Condition

(d) This AD was prompted by manufacturer testing that has shown contact between the inflation hose and fabric roll, within a short period of time after inflation of the emergency escape slides, can rupture the inflation hose at its end fittings. We are issuing this AD to prevent interference between the inflation hose and slide fabric and rupture of the inflation hose, which could result in incomplete inflation of the emergency escape slides and consequent unavailability of those slides during an emergency evacuation.

Compliance

(e) You are responsible for having the actions required by this AD performed within the compliance times specified, unless the actions have already been done.

Modification

(f) Within 37 months after the effective date of this AD, modify the forward and aft door slides, in accordance with the Accomplishment Instructions of Airbus Service Bulletin A320-25-1338, dated February 9, 2004.

Note 1: Airbus Service Bulletin A320-25-1338, dated February 9, 2004, refers to Air Cruisers/Aerazur Service Bulletin A320 004-25-72, dated October 28, 2003, as an additional source of service information for modifying the forward and aft door slides.

Alternative Methods of Compliance (AMOCs)

(g) The Manager, International Branch, ANM-116, Transport Airplane Directorate, FAA, has the authority to approve AMOCs for this AD, if requested in accordance with the procedures found in 14 CFR 39.19.

Related Information

(h) French airworthiness directive F-2004-072, dated May 26, 2004, also addresses the subject of this AD.

Issued in Renton, Washington, on October 20, 2004.
Kalene C. Yanamura,
Acting Manager, Transport Airplane Directorate, Aircraft Certification Service.

[FR Doc. 04-24534 Filed 11-2-04; 8:45 am]

BILLING CODE 4910-13-P